DEPARTMENT OF TRANSPORTATION

Federal Aviation Administration

14 CFR Part 71

[Airspace Docket No. 00-ASO-4]

Establishment of Class E Airspace; Andrews—Murphy, NC; Correction

AGENCY: Federal Aviation Administration (FAA), DOT.

ACTION: Final rule; correction.

SUMMARY: This action corrects an error in the airspace description of a final rule that was published in the Federal Register on March 31, 2000 (65 FR 17133), Airspace Docket No. 00-ASO-4. The final rule establishes Class E airspace at Andrews—Murphy, NC.

EFFECTIVE DATE: Effective 0901 UTC, June 15, 2000.

FOR FURTHER INFORMATION CONTACT: Nancy B. Shelton, Manager, Airspace Branch, Air Traffic Division, Federal Aviation Administration, P.O. Box 20636, Atlanta, Georgia 30320; telephone (404) 305-5627.

SUPPLEMENTARY INFORMATION:

History

Federal Register Document 00-7959, Airspace Docket No. 00-AS0-4, published on March 31, 2000 (65 FR 17133), established Class E airspace at Andrews—Murphy, NC. The airspace description inadvertently omitted language excluding the Class E airspace area at Knoxville, TN. This action corrects the error.

Correction to Final Rule

Accordingly, pursuant to the authority delegated to me, the airspace description for the Class E airspace area at Andrews—Murphy, NC, incorporated by reference at § 71-1 and published in the Federal Register on March 31, 2000 (65 FR 17133), is corrected as follows:

§ 71.1 [Corrected]

ASO NC E5 Andrews—Murphy, NC [Corrected]

1. On page 17134, column 1, line 2, correct the airspace description by adding “; excluding that airspace within the Knoxville, TN, Class E airspace” after “NC”.

Issued in College Park, Georgia, on April 20, 2000.
Nancy B. Shelton,
Acting Manager, Air Traffic Division, Southern Region.

[FR Doc. 00-10714 Filed 5-11-00; 8:45 am]

BILLING CODE 4910-13-M